DEPARTMENT OF ENERGY

Federal Energy Regulatory Commission

[Docket No. EC01-57-000, et al.]

The Connecticut Light and Power Company, et al.; Electric Rate and Corporate Regulation Filings

January 19, 2001.

Take notice that the following filings have been made with the Commission:

1. The Connecticut Light and Power Company

[Docket Nos. EC01-57-000 and ER01-947-000]

Take notice that on January 12, 2001, The Connecticut Light and Power Company (Applicant) tendered for filing an Application for approval under section 203 of the Federal Power Act for approval of the disposition of jurisdictional facilities that will result from the sale of generating units in the 250-MW South Meadow generating station to the Connecticut Resources Recovery Authority (CRRA). Applicant also seeks acceptance under section 205 of the Federal Power Act of an Interconnection and Operation Agreement relating to those facilities.

Applicant requests an effective date for the Interconnection and Operation Agreement of February 28, 2001, and states that copies of this filing are being mailed to CRRA and the Connecticut Department of Public Utility Control.

Comment date: February 2, 2001, in accordance with Standard Paragraph E at the end of this notice.

2. CPV Atlantic, Ltd.

[Docket No. EG01-103-000]

Take notice that on January 17, 2001, CPV Atlantic, Ltd. (CPV Atlantic or Applicant), c/o Competitive Power Ventures, Inc., Silver Spring Metro Plaza I, 8401 Colesville Road, Suite 504, Silver Spring, MD 20910, filed with the Federal Energy Regulatory Commission (Commission) an Application for Determination of Exempt Wholesale Generator Status, pursuant to Part 365 of the Commission's Regulations and Section 32 of the Public Utility Holding Company Act of 1935, as amended.

Applicant, a Florida limited partnership, is a special purpose entity established to develop, construct, own and operate a nominally rated 250 MW natural gas-fired combined cycle generating facility (Facility) to be located in the City of Port St. Lucie, Port St. Lucie County, Florida. The Facility will consist of one (1) F class combustion turbine, one (1) heat recovery steam generator and one (1) steam turbine. The Facility as currently configured will include certain transmission interconnection facilities necessary to effect the sale of electric energy at wholesale and interconnect the Facility to the transmission grid. All of the electricity generated by the Facility will be sold exclusively at wholesale.

Comment date: February 9, 2001, in accordance with Standard Paragraph E at the end of this notice. The Commission will limit its consideration of comments to those that concern the adequacy or accuracy of the application.

3. American Transmission Systems, Inc.

[Docket No. ER01-363-001]

Take notice that on January 16, 2001, American Transmission Systems, Incorporated made a compliance filing to revise Schedule 4A of its Open Access Transmission Tariff in accordance with the Commission's Letter Order of December 29, 2000 in this proceeding. This filing is made pursuant to Section 205 of the Federal Power Act.

Copies of this compliance filing have been served on the Public Utilities Commission of Ohio and parties of record.

Comment date: February 6, 2001, in accordance with Standard Paragraph E at the end of this notice.

4. Allegheny Energy Supply Company, LLC

[Docket No. ER01-944-000]

Take notice that on January 12, 2001, Allegheny Energy Supply Company, LLC (AE Supply) filed with the Federal Energy Regulatory Commission a letter approving its membership in the Western Systems Power Pool (WSPP).

AE Supply requests that the Commission allow its membership in the WSPP to become effective on January 15, 2001.

AE Supply states that a copy of this filing has been provided to the WSPP Executive Committee, the Pennsylvania Public Utility Commission, the Maryland Public Service Commission, the West Virginia Public Service Commission, the Public Utilities Commission of Ohio, the Virginia State Corporation Commission, Michael E. Small, Esq. and David S. Berman, Esq., General Counsel to the WSPP, and the members of the WSPP.

Comment date: February 2, 2001, in accordance with Standard Paragraph E at the end of this notice.

5. North Atlantic Energy Corporation

[Docket No. ER01-949-000]

Take notice that on January 16, 2001, North Atlantic Energy Corporation, tendered for filing revisions to its FERC Electric Service Rate Schedules Nos. 1 and 3. The Revised Rate Schedules would lower rates of North Atlantic Energy Corporation's (North Atlantic) charges to the Public Service Company of New Hampshire (PSNH) for the output of North Atlantic's ownership interest in the Seabrook Nuclear Power Station.

The reductions are the result of a Restructuring Settlement for PSNH. Under the Restructuring Settlement, PSNH will issue revenue reduction bonds, the proceeds of which will be used, in part, to buy down North Atlantic's investment in Seabrook Station. The amendments also reduce North Atlantic's cost of common equity charged under the Rate Schedules from 12.53% to 7.00%.

Copies of this filing were served upon the Office of the Attorney General for the State of New Hampshire, and the Executive Director and Secretary of the New Hampshire Public Utilities Commission.

Comment date: February 6, 2001, in accordance with Standard Paragraph E at the end of this notice.

6. Jersey Central Power & Light Company, Metropolitan Edison Company, and Pennsylvania Electric Company

[Docket No. ER01-950-000]

Take notice that on January 16, 2001, Jersey Central Power & Light Company, Metropolitan Edison Company and Pennsylvania Electric Company (individually doing business as GPU Energy) submitted for filing a Notice of Cancellation of the Service Agreement between GPU Energy and New Energy Ventures, L.L.C. (now AES NewEnergy, Inc.), FERC Electric Tariff, Original Volume No. 1, Service Agreement No. 76.

GPU Energy requests that cancellation be effective the 15th day of March 2001.

Comment date: February 6, 2001, in accordance with Standard Paragraph E at the end of this notice.

7. Jersey Central Power & Light Company, Metropolitan Edison Company, and Pennsylvania Electric Company

[Docket No. ER01-951-000]

Take notice that on January 16, 2001, Jersey Central Power & Light Company, Metropolitan Edison Company and Pennsylvania Electric Company (individually doing business as GPU Energy) submitted for filing a Notice of Cancellation of the Service Agreement between GPU Energy and Energis Resources Incorporated (now PSEG Energy Technologies), FERC Electric Tariff, Original Volume No. 1, Service Agreement No. 84.

GPU Energy requests that cancellation be effective the 15th day of March 2001.

Comment date: February 6, 2001, in accordance with Standard Paragraph E at the end of this notice.

8. Jersey Central Power & Light Company; Metropolitan Edison Company; Pennsylvania Electric Company

[Docket No. ER01-952-000]

Take notice that on January 16, 2001, Jersey Central Power & Light Company, Metropolitan Edison Company and Pennsylvania Electric Company (individually doing business as GPU Energy) submitted for filing a Notice of Cancellation of the Service Agreement between GPU Energy and Dupont Power Marketing, Inc. (now Conoco Power Marketing, Inc.), FERC Electric Tariff, Original Volume No. 1, Service Agreement No. 82.

GPU Energy requests that cancellation be effective the 15th day of March 2001.

Comment date: February 6, 2001, in accordance with Standard Paragraph E at the end of this notice.

9. Jersey Central Power & Light Company; Metropolitan Edison Company; Pennsylvania Electric Company

[Docket No. ER01-953-000]

Take notice that on January 16, 2001, Jersey Central Power & Light Company, Metropolitan Edison Company and Pennsylvania Electric Company (individually doing business as GPU Energy) submitted for filing a Notice of Cancellation of the Service Agreement between GPU Energy and PacifiCorp Power Marketing, Inc., FERC Electric Tariff, Original Volume No. 1, Service Agreement No. 77.

GPU Energy requests that cancellation be effective the 15th day of March 2001.

Comment date: February 6, 2001, in accordance with Standard Paragraph E at the end of this notice.

10. Jersey Central Power & Light Company; Metropolitan Edison Company; Pennsylvania Electric Company

[Docket No. ER01-954-000]

Take notice that on January 16, 2001, Jersey Central Power & Light Company, Metropolitan Edison Company and Pennsylvania Electric Company (individually doing business as GPU Energy) submitted for filing a Notice of Cancellation of the Service Agreement between GPU Energy and Strategic Energy Ltd., FERC Electric Tariff, Original Volume No. 1, Service Agreement No. 83.

GPU Energy requests that cancellation be effective the 15th day of March 2001.

Comment date: February 6, 2001, in accordance with Standard Paragraph E at the end of this notice.

11. Virginia Electric and Power Company

[Docket No. ER01-955-000]

Take notice that on January 16, 2001, Virginia Electric and Power Company (the Company) tendered for filing a Service Agreement for Short-Term Market Rate Electric Power Sales and the Resale of Transmission Rights with AES Eastern Energy, L.P.

Under the Service Agreement, the Company will provide services to the customer under the terms of the Company's Revised Market-Based Rate Tariff designated as FERC Electric Tariff (Third Revised Volume No. 4), which was accepted by order of the Commission dated August 30, 2000 in Docket No. ER00-1737-001.

The Company requests an effective date of January 16, 2001, the date the service agreement was filed.

Copies of the filing were served upon AES Eastern Energy, L.P., the Virginia State Corporation Commission and the North Carolina Utilities Commission.

Comment date: February 6, 2001, in accordance with Standard Paragraph E at the end of this notice.

12. Virginia Electric and Power Company

[Docket No. ER01-956-000]

Take notice that on January 16, 2001, Virginia Electric and Power Company (Dominion Virginia Power or the Company) tendered for filing the following:

1. Service Agreement for Firm Point-to-Point Transmission Service by Virginia Electric and Power Company to Indiana Electric Marketing LLC designated as Service Agreement No. 312 under the Company's FERC Electric Tariff, Second Revised Volume No. 5;

2. Service Agreement for Non-Firm Point-to-Point Transmission Service by Virginia Electric and Power Company to Indiana Electric Marketing LLC designated as Service Agreement No. 313 under the Company's FERC Electric Tariff, Second Revised Volume No. 5.

The foregoing Service Agreements are tendered for filing under the Open Access Transmission Tariff to Eligible Purchasers effective June 7, 2000. Under the tendered Service Agreements, Dominion Virginia Power will provide point-to-point service to Indiana Electric Marketing LLC under the rates, terms and conditions of the Open Access Transmission Tariff.

Dominion Virginia Power requests an effective date of January 16, 2001, the date of filing of the Service Agreements.

Copies of the filing were served upon Indiana Electric Marketing LLC, the Virginia State Corporation Commission, and the North Carolina Utilities Commission.

Comment date: February 6, 2001, in accordance with Standard Paragraph E at the end of this notice.

13. Wisconsin Electric Power Company

[Docket No. ER01-957-000]

Take notice that on January 16, 2001, Wisconsin Electric Power Company (Wisconsin Electric), tendered for filing an amendment to its Power Sales Agreement (PSA) with Ontonagon County Electrification Association (Ontonagon) along with a complete copy of the PSA with Order 614 designations.

Wisconsin Electric respectfully requests an effective date of January 15, 2001.

Copies of the filing have been served on Ontonagon, the Michigan Public Service Commission, and the Public Service Commission of Wisconsin.

Comment date: February 6, 2001, in accordance with Standard Paragraph E at the end of this notice.

14. Nevada Power Company

[Docket No. ER01-958-000]

Take notice that on January 16, 2001, Nevada Power Company tendered for filing, in accordance with 18 CFR Part 35 of the Commission's Rules and Regulations, a Notice of Cancellation of Agreement for Supplemental Power Service Between Nevada Power Company and Overton Power District No. 5.

This Notice of Cancellation is filed pursuant to the notice of termination of the Agreement for Supplemental Power Service given pursuant to the terms of the agreement by Nevada Power Company to Overton Power District No. 5.

Copies of the filing were served upon Overton Power District No. 5, the Public Utilities Commission of Nevada and the Nevada Attorney General's Bureau of Consumer Protection.

Comment date: February 6, 2001, in accordance with Standard Paragraph E at the end of this notice.

15. Allegheny Energy Global Markets, LLC

[Docket No. ER01-959-000]

Take notice that on January 16, 2001, Allegheny Energy Global Markets, LLC (Allegheny Energy Global, LLC ) filed a market rate tariff of general applicability under which it proposes to sell capacity and energy to affiliates and non-affiliates at market-based rates, and to make such sales to franchised public utility affiliates at rates capped by a publicly available regional index price.

Allegheny Energy Global, LLC requests an effective date no later than February 12, 2001.

Copies of the filing have been provided to the Public Utilities Commission of Ohio, the Pennsylvania Public Utility Commission, the Maryland Public Service Commission, the Virginia State Corporation Commission, the West Virginia Public Service Commission, and all parties of record.

Comment date: February 6, 2001, in accordance with Standard Paragraph E at the end of this notice.

16. Arizona Public Service Company

[Docket No. ER01-960-000]

Take notice that on January 16, 2001, Arizona Public Service Company (APS) tendered for filing umbrella Service Agreements to provide Short-Term Firm and Non-Firm Point-to-Point Transmission Service to Abitibi Consolidated Sales Corporation under APS' Open Access Transmission Tariff.

A copy of this filing has been served on Abitibi Consolidated Sales Corporation, and the Arizona Corporation Commission.

Comment date: February 6, 2001, in accordance with Standard Paragraph E at the end of this notice.

17. California Independent System Operator Corporation

[Docket No. ER01-961-000]

Take notice that on January 16, 2001, the California Independent System Operator Corporation (ISO), tendered for filing a Meter Service Agreement for Scheduling Coordinators between the ISO and Calpine Energy Services, LP for acceptance by the Commission.

The ISO states that this filing has been served on Calpine Energy Services, LP and the California Public Utilities Commission.

The ISO is requesting waiver of the 60-day notice requirement to allow the Meter Service Agreement to be made effective as of January 3, 2001.

Comment date: February 6, 2001, in accordance with Standard Paragraph E at the end of this notice.

18. California Independent System Operator Corporation

[Docket No. ER01-962-000]

Take notice that on January 16, 2001, the California Independent System Operator Corporation, tendered for filing a Scheduling Coordinator Agreement between the ISO and Calpine Energy Services, LP for acceptance by the Commission.

The ISO states that this filing has been served on Calpine Energy Services, LP and the California Public Utilities Commission.

The ISO is requesting waiver of the 60-day notice requirement to allow the Scheduling Coordinator Agreement to be made effective as of January 3, 2001.

Comment date: February 6, 2001, in accordance with Standard Paragraph E at the end of this notice.

19. California Independent System Operator Corporation

[Docket No. ER01-963-000]

Take notice that on January 16, 2001, the California Independent System Operator Corporation (ISO), tendered for filing a Meter Service Agreement for Scheduling Coordinators between the ISO and Morgan Stanley Capital Group Inc. for acceptance by the Commission.

The ISO states that this filing has been served on Morgan Stanley Capital Group Inc. and the California Public Utilities Commission.

The ISO is requesting waiver of the 60-day notice requirement to allow the Meter Service Agreement to be made effective as of January 3, 2001.

Comment date: February 6, 2001, in accordance with Standard Paragraph E at the end of this notice.

20. California Independent System Operator Corporation

[Docket No. ER01-964-000]

Take notice that on January 16, 2001, the California Independent System Operator Corporation, tendered for filing a Scheduling Coordinator Agreement between the ISO and Morgan Stanley Capital Group Inc. for acceptance by the Commission.

The ISO states that this filing has been served on Morgan Stanley Capital Group Inc. and the California Public Utilities Commission.

The ISO is requesting waiver of the 60-day notice requirement to allow the Scheduling Coordinator Agreement to be made effective as of January 3, 2001.

Comment date: February 6, 2001, in accordance with Standard Paragraph E at the end of this notice.

21. Jersey Central Power & Light Company, Metropolitan Edison Company, Pennsylvania Electric Company

[Docket No. ER01-965-000]

Take notice that on January 16, 2001, Jersey Central Power & Light Company, Metropolitan Edison Company and Pennsylvania Electric Company (individually doing business as GPU Energy) submitted for filing a Notice of Cancellation of the Service Agreement between GPU Service Corporation and Aquila Power Corporation (now Aquila Energy Marketing Corporation), FERC Electric Tariff, Original Volume No. 1, Service Agreement No. 32.

GPU Energy requests that cancellation be effective the 15th day of March 2001.

Comment date: February 6, 2001, in accordance with Standard Paragraph E at the end of this notice.

22. Union Electric Company, Central Illinois Public Service Company

[Docket No. ER01-966-000]

Take notice that on January 16, 2001, AmerenUE, gave notice, pursuant to Midwest Independent Transmission System Operator, Inc., 84 FERC ¶ 61,231 (1998), that Ameren intends to withdraw from the Midwest ISO.

Comment date: February 6, 2001, in accordance with Standard Paragraph E at the end of this notice.

23. California Independent System Operator Corporation

[Docket No. ER01-967-000]

Take notice that on January 16, 2001, the California Independent System Operator Corporation (ISO) submitted for filing and acceptance an amendment (Amendment No. 1) to the Utility Distribution Company Operating Agreement (UDC Operating Agreement) between the ISO and the City of Pasadena, California (Pasadena).

The ISO requests waiver of the Commission's 60-day prior notice requirement to allow Amendment No. 1 to be made effective as of January 3, 2001, the date on which Amendment No. 1 was executed.

The ISO states that this filing has been served upon all parties in Docket No. ER99-3619-000, the proceeding in which the UDC Operating Agreement was filed.

Comment date: February 6, 2001, in accordance with Standard Paragraph E at the end of this notice.

24. Great Bay Power Corporation

[Docket No. ER01-968-000]

Take notice that on January 16, 2001, Great Bay Power Corporation (Great Bay) tendered for filing a service agreement between Calpine Energy Services, L.P. and Great Bay for service under Great Bay's revised Market-Based Rate Power Sales Tariff (Tariff). This Tariff was accepted for filing by the Commission on May 31, 2000, in Docket No. ER00-2211-000.

The service agreement is proposed to be effective January 1, 2001.

Comment date: February 6, 2001, in accordance with Standard Paragraph E at the end of this notice.

25. Alliant Energy Corporate Services, Inc.

[Docket No. ER01-969-000]

Take notice that on January 16, 2000, Alliant Energy Corporate Services, Inc. tendered for filing executed Service Agreements for network integration transmission service with Xcel Energy Services Inc. as Agent for Northern States Power Company as a network Transmission Customer under the terms of the Alliant Energy Corporate Services, Inc. transmission tariff.

Alliant Energy Corporate Services, Inc. requests an effective date of January 1, 2001, and accordingly, seeks waiver of the Commission's notice requirements.

A copy of this filing has been served upon the Illinois Commerce Commission, the Minnesota Public Utilities Commission, the Iowa Department of Commerce, and the Public Service Commission of Wisconsin.

Comment date: February 6, 2001, in accordance with Standard Paragraph E at the end of this notice.

26. Consumers Energy Company

[Docket No. ER01-970-000]

Take notice that on January 16, 2001, Consumers Energy Company (Consumers) tendered for filing executed Firm and Non-Firm Point to Point Transmission Service Agreements with Tenaska Power Services Co. (Customer) pursuant to the Joint Open Access Transmission Service Tariff filed on December 31, 1996 by Consumers and The Detroit Edison Company (Detroit Edison).

Both Agreements have effective dates of January 1, 2001.

Copies of the filed agreements were served upon the Michigan Public Service Commission, Detroit Edison, and the Customer.

Comment date: February 6, 2001, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 01-2386 Filed 1-25-01; 8:45 am]

BILLING CODE 6717-01-P